DEPARTMENT OF THE TREASURY

Submission for OMB Review; Comment Request

June 7, 2011.

The Department of the Treasury will submit the following public information collection requirement to OMB for review and clearance under the Paperwork Reduction Act of 1995, Public Law 104-13 on or after the date of publication of this notice. A copy of the submission may be obtained by calling the Treasury Bureau Clearance Officer listed. Comments regarding this information collection should be addressed to the OMB reviewer listed and to the Treasury PRA Clearance Officer, Department of the Treasury, 1750 Pennsylvania Avenue, NW., Suite 11010, Washington, DC 20220.

DATES: Written comments should be received on or before July 11, 2011 to be assured of consideration.

Bureau of the Public Debt (BPD)

OMB Number: 1535-0142.

Title: Conducting Focus Groups For Retail Securities Products.

Type of Review: Revision of a currently approved collection.

Abstract: Focus groups will be conducted to better understand the financial investment behaviors and practices of current and future customers; gather customers' opinions, beliefs, and attitudes about a small number of pre-defined potential products and delivery mechanisms, and fulfill Public Debt's commitment under Executive Order 12862 to provide customer service equal to the best in the business.

Affected Public: Individuals and households.

Estimated Total Burden Hours: 432.

Bureau Clearance Officer: Bruce Sharp, Bureau of the Public Debt, 200 Third Street, Parkersburg, West Virginia 26106; (304) 480-8112.

OMB Reviewer: Shagufta Ahmed, Office of Management and Budget, New Executive Office Building, Room 10235, Washington, DC 20503; (202) 395-7873.

Dawn D. Wolfgang,
Treasury PRA Clearance Officer.

[FR Doc. 2011-14393 Filed 6-9-11; 8:45 am]

BILLING CODE 4810-39-P